DEPARTMENT OF ENERGY

Western Area Power Administration

Boulder Canyon Project—Post-2017 Application of the Energy Planning and Management Program Power Marketing Initiative

AGENCY: Western Area Power Administration, DOE.

ACTION: Notice of extension of comment period.

SUMMARY: The Western Area Power Administration (Western), Desert Southwest Region, a Federal power marketing agency of the Department of Energy (DOE), is extending the comment period regarding the application of the Energy Planning and Management Program (Program) Power Marketing Initiative (PMI) (10 CFR part 905) to the Boulder Canyon Project (BCP).

This Federal Register notice extends the comment period for the proposed application of the PMI to the BCP and all other proposals contained in Western's November 20, 2009, Federal Register notice.

DATES: The consultation and comment period for the application of the PMI to BCP has been extended from January 29, 2010, to September 30, 2010.

ADDRESSES: Comments may be submitted to: Mr. Darrick Moe, Western Area Power Administration, Desert Southwest Regional Manager, P.O. Box 6457, Phoenix, AZ 85005-6457. Comments may also be faxed to (602) 605-2490 or e-mailed to Post2017BCP@wapa.gov.

FOR FURTHER INFORMATION CONTACT: Mr. Mike Simonton, Remarketing Specialist, Desert Southwest Region, Western Area Power Administration, P.O. Box 6457, Phoenix, AZ 85005, telephone (602) 605-2675, e-mail Post2017BCP@wapa.gov. Further information regarding this effort can be found at http://www.wapa.gov/dsw/pwrmkt.

SUPPLEMENTARY INFORMATION: On November 20, 2009, Western published a notice in the Federal Register (74 FR 60256) announcing its Post-2017 remarketing effort for the BCP. This Federal Register notice included a proposal to apply the PMI to the BCP as well as other aspects related to the remarketing of BCP generation capacity and energy after the current long-term contracts expire on September 30, 2017.

Western subsequently held public information forums from December 1-3, 2009, and public comment forums from January 19-21, 2010. As a result of these forums, several requests were made to extend the comment period to allow for further study of the proposals and external developments.

This extension of the January 29 deadline to September 30 provides Western additional time to examine the issues raised in the comments received on the proposed application of the PMI to the BCP and the other Western proposals, and provides all interested parties additional opportunity to consult with Western and comment on the proposals.

Dated: April 8, 2010.
Timothy J. Meeks,
Administrator.

[FR Doc. 2010-8752 Filed 4-15-10; 8:45 am]

BILLING CODE 6450-01-P